DEPARTMENT OF JUSTICE

[OMB Number 1121-0369]

Agency Information Collection Activities; Proposed eCollection; eComments Requested Extension Without Change of a Previously Approved Collection; National Criminal Justice Reference Service (NCJRS) Online Subscription Center (1121-0369)

AGENCY: Office of Communications, Office of Justice Programs, Department of Justice.

ACTION: 30-Day notice.

SUMMARY: The Office of Communications (OCOM), Office of Justice Programs (OJP), Department of Justice (DOJ), will be submitting the following information collection request to the Office of Management and Budget (OMB) for review and approval in accordance with the Paperwork Reduction Act of 1995.

DATES: The Department of Justice encourages public comment and will accept input until October 26, 2022.

ADDRESSES: Written comments and recommendations for the proposed information collection should be sent within 30 days of publication of this notice to www.reginfo.gov/public/do/PRAMain. Find this particular information collection by selecting “Currently under 30-day Review—Open for Public Comments” or by using the search function.

SUPPLEMENTARY INFORMATION: Written comments and suggestions from the public and affected agencies concerning the proposed collection of information are encouraged. Your comments should address one or more of the following four points:

• Evaluate whether the proposed collection of information is necessary for the proper performance of the functions of the agency, including whether the information will have practical utility;

• Evaluate the accuracy of the agencies estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Overview of This Information Collection

1. Type of Information Collection: Extension of a currently approved collection.

2. Title of the Form/Collection: National Criminal Justice Reference Service (NCJRS) online subscription center: https://www.ncjrs.gov/App/Secure/Registration/Register.aspx/.

3. Agency form number, if any, and the applicable component of the Department sponsoring the collection: Agency form number: 1121-0369.

Sponsoring component: Office of Communications, Office of Justice Programs, Department of Justice.

4. Affected public who will be asked or required to respond, as well as a brief abstract: Currently, constituents can sign-up for communications, such as new publications, funding opportunities, events, and other news and announcements from NCJRS and the NCJRS federal sponsors, place online orders, and track their order status by creating a detailed profile on NCJRS.gov. Users can also subscribe to specific Bureau, Program Office, and shared email notification lists and newsletters when creating an NCJRS account. This action can also be accomplished on various Bureau, Program Office, or GovDelivery web pages.

The NCJRS online subscription center was revised in 2019 and approved by OMB on September 18, 2019.

5. An estimate of the total number of respondents and the amount of time estimated for an average respondent to respond/reply: An estimated 75 constituents use the NCJRS online subscription center on a monthly basis to register. An average of 2-4 minutes per respondent is needed to complete form 1121-0369.

6. An estimate of the total public burden (in hours) associated with the collection: It is estimated that respondents will take 2-4 minutes to complete their profile. The estimated public burden hours associated for users to subscribe is 5 hours per month (75 respondents × 4 minutes = 300 minutes/60 minutes = 5 hours) or 60 hours per year (5 hours × 12 months = 60 hours).

If additional information is required contact: Robert Houser, Department Clearance Officer, Policy and Planning Staff, Justice Management Division, United States Department of Justice, Two Constitution Square, 145 N Street NE, Suite 3E.206, Washington, DC 20530.

Dated: September 21, 2022.
Robert Houser,
Assistant Director, Policy and Planning Staff, Office of the Chief Information Officer, U.S. Department of Justice.

[FR Doc. 2022-20788 Filed 9-23-22; 8:45 am]

BILLING CODE 4410-18-P